DEPARTMENT OF JUSTICE

[OMB Number 1110-0021]

Agency Information Collection Activities; Proposed eCollection eComments Requested; Extension Without Change, of a Previously Approved Collection; FBI National Academy Post-Graduate Questionnaire for Graduates; FBI National Academy Graduate Questionnaire for Supervisors of Graduates

AGENCY: Bureau of Justice Statistics, Federal Bureau of Investigation, Department of Justice.

ACTION: 60-Day notice.

SUMMARY: The Department of Justice (DOJ), Federal Bureau of Investigation (FBI), Training Division's Curriculum Management Section (CMS) has submitted the following information collection request to the Office of Management and Budget (OMB) for review and approval in accordance with the Paperwork Reduction Act of 1995. The proposed information collection is published to obtain comments from the public and affected agencies.

DATES: Comments are encouraged and will be accepted for 60 days until July 11, 2017.

FOR FURTHER INFORMATION CONTACT: If you have additional comments especially on the estimated public burden or associated response time, suggestions, or need a copy of the proposed information collection instrument with instructions or additional information, please contact Keith Shirley, Unit Chief, Evaluation and Assessment Unit, Training Division, FBI Academy, Federal Bureau of Investigation, Quantico, Virginia 22135.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: FBI National Academy Post-Graduate Questionnaire for Graduates and FBI National Academy Post-Graduate Questionnaire for Supervisors of Graduates.

3. The agency form number, if any, and the applicable component of the Department sponsoring the collection: The form is unnumbered. The applicable component within the Department of Justice is the Training Division, Federal Bureau of Investigation (FBI).

4. Affected public who will be asked or required to respond, as well as a brief abstract:

Primary: This information collection is FBI National Academy students that represent state and local police and sheriffs' departments, military police organizations, and federal law enforcement agencies from the United States and over 150 foreign nations.

This information collection is FBI National Academy. These questionnaires have been designed to collect feedback from National Academy graduates and their supervisors to determine the type of impact the National Academy program had on their organization. The results are used to help determine if the National Academy program is functioning as intended and meeting its goals and objectives. We will utilize the students' comments to improve the current curriculum.

5. An estimate of the total number of respondents and the amount of time estimated for an average respondent to respond: Approximately 1,000 FBI National Academy Post-Graduate Questionnaire for Graduates. It is predicted we will receive a 50% response rate. The average response time for reading the questionnaire directions for the FBI National Academy Post-Graduate Questionnaire for Graduates is estimated to be two (2) minutes; the time to complete each questionnaire is estimated to be 30 minutes. Thus the total time to complete the Post-Graduate Questionnaire for Graduates is 32 minutes.

The total estimated time to complete each questionnaire per respondent for each group is 32 minutes.

6. An estimate of the total public burden (in hours) associated with the collection: The estimated public burden associated with this collection given that approximately 50% of those surveyed or (500 from each group) will respond, the total public burden for completing all questionnaires is 533 hours.

If additional information is required contact: Melody Braswell, Department Clearance Officer, United States Department of Justice, Justice Management Division, Policy and Planning Staff, Two Constitution Square, 145 N Street NE., 3E.405A, Washington, DC 20530.

Dated: May 9, 2017.
Melody Braswell,
Department Clearance Officer for PRA, U.S. Department of Justice.

[FR Doc. 2017-09645 Filed 5-11-17; 8:45 am]

BILLING CODE 4410-02-P